DEPARTMENT OF HEALTH AND HUMAN SERVICES

National Institutes of Health

National Cancer Institute; Amended Notice of Meeting

Notice is hereby given of a change in the meeting of the President's Cancer Panel, October 24, 2005, 8 a.m. to October 24, 2005, 5 p.m., Hotel Washington, Pennsylvania Ave at 15th Street, NW., Washington, DC, 20004 which was published in the Federal Register on September 27, 2005, 70 FR 56477.

This meeting is amended to change the end time of the open session from 5 p.m. to 4 p.m. on October 24, 2005 and the date and time of the closed session from 1 p.m.-4 p.m. on October 25, 2005 to 4:15 p.m.-6:15 p.m. on October 24, 2005. The meeting is partially Closed to the public.

Dated: October 5, 2005.
Anthony M. Coelho, Jr.,
Acting Director, Office of Federal Advisory Committee Policy.

[FR Doc. 05-20742 Filed 10-17-05; 8:45 am]

BILLING CODE 4140-01-M